DEPARTMENT OF TRANSPORTATION

Global Positioning System Adjacent Band Compatibility Assessment Workshop III

AGENCY: Office of the Assistant Secretary for Research and Technology (OST-R), Department of Transportation.

ACTION: Notice of meeting.

SUMMARY: The purpose of this notice is to inform the public that the U.S. Department of Transportation will host a third workshop to continue discussions of the Global Positioning System (GPS) Adjacent Band Compatibility Assessment. The workshop will focus on the following topics: (i) Identification of GPS and Global Navigation Satellite System (GNSS) receivers to be considered for testing that are representative of the current categories of user applications; and (ii) discussion of a GPS/GNSS receiver test plan. To maximize participation and discussion, the U.S. Department of Transportation is requesting that those interested in presenting on one (or all) of the above topics please contact Stephen Mackey (contact information listed below) by March 2, 2015.

This workshop is open to the general public by registration only. For those who would like to attend the workshop, we request that you register no later than March 2, 2015. Please use the following link to register: https://volpecenterevents.webex.com/volpecenterevents/onstage/g.php?d=291900050&t=a.

You must include:

• Name

• Organization

• Telephone number

• Mailing and email addresses

• Attendance method (WebEx or on site)

• Country of citizenship

• Intend to present (Yes/No)

○ If Yes, topic and title

The U.S. Department of Transportation is committed to providing equal access to this workshop for all participants. If you need alternative formats or services because of a disability, please contact Stephen Mackey (contact information listed below) with your request by close of business February 27, 2015.

DATES: Date/Time: March 12, 2015 8:30 a.m.-3:30 p.m. (Pacific Daylight Time).

Location

Aerospace Corporation, 2310 E. El Segundo Blvd., El Segundo, CA 90245.

Identification will be required at the entrance of Aerospace Corporation facility (Passport, state ID, or Federal ID). Several Days leading up to the workshop, an email containing the agenda, dial-in, and WebEx information will be provided.

FOR FURTHER INFORMATION CONTACT: Stephen M. Mackey, U.S. Department of Transportation, John A. Volpe National Transportation Systems Center, V-345, 55 Broadway, Cambridge, MA 02142, Stephen.Mackey@dot.gov, 617-494-2753.

Issued in Washington, DC, on February 6, 2015.
Gregory D. Winfree,
Assistant Secretary for Research and Technology.

[FR Doc. 2015-03020 Filed 2-12-15; 8:45 am]

BILLING CODE 4910-9X-P